ENVIRONMENTAL PROTECTION AGENCY

[EPA-HQ-OW-2008-0719, FRL-8722-1]

Agency Information Collection Activities; Proposed Collection; Comment Request; NPDES and Sewage Sludge Monitoring Reports; EPA ICR No. 0229.17; OMB Control No. 2040-0004.

AGENCY: Environmental Protection Agency (EPA).

ACTION: Notice.

SUMMARY: In compliance with the Paperwork Reduction Act (44 U.S.C. 3501 et seq.), this notice announces that EPA is planning to submit a request to renew and consolidate existing approved Information Collection Requests (ICRs) and to update the burden in those estimates to include the burden associated with EPA's upcoming Vessels General Permit (VGP) to the Office of Management and Budget (OMB). Two of these ICRs (NPDES and Sewage Sludge Monitoring Reports ICR, OMB 2040-0004 and CSO Control Policy, OMB 2040-0170) are scheduled to expire on September 30, 2008. All of the burden will be consolidated under the NPDES and Sewage Sludge Monitoring Reports ICR (OMB 2040-0004). Before submitting the ICR to OMB for review and approval, EPA is soliciting comments on specific aspects of the proposed information collection as described below.

DATES: Comments must be submitted on or before November 28, 2008.

ADDRESSES: Submit your comments, identified by Docket ID No. EPA-HQ-OW-2008-0719, by one of the following methods:

• http://www.regulations.gov: Follow the online instructions for submitting comments.

• E-mail: ow-docket@epa.gov (Identify Docket ID No. EPA-HQ-OW-2008-0719 in the subject line).

• Mail: Water Docket, Environmental Protection Agency, Mailcode: 4203M, 1200 Pennsylvania Ave., NW., Washington, DC 20460. Please include a total of three copies.

• Hand Delivery: EPA Docket Center, EPA West, Room 3334, 1301 Constitution Avenue, NW., Washington, DC 20460. Such deliveries are only accepted during the Docket's normal hours of operation, and special arrangements should be made for deliveries of boxed information.

Instructions: Direct your comments identified by the Docket ID No. EPA-HQ-OW-2008-0719. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket, visit the EPA Docket Center homepage at http://www.epa.gov/epahome/dockets.htm.

FOR FURTHER INFORMATION CONTACT: Amelia Letnes, State and Regional Branch, Water Permits Division, OWM Mail Code: 4203M, Environmental Protection Agency, 1200 Pennsylvania Ave., NW., Washington, DC 20460; telephone number: (202) 564-5627; e-mail address: letnes.amelia@epa.gov.

SUPPLEMENTARY INFORMATION:

How Can I Access the Docket and/or Submit Comments?

EPA has established a public docket for this ICR under Docket ID No. EPA-HQ-OW-2008-0719, which is available for online viewing at http://www.regulations.gov, or in person viewing at the Water Docket in the EPA Docket Center (EPA/DC), EPA West, Room 3334, 1301 Constitution Ave., NW., Washington, DC. The EPA/DC Public Reading Room is open from 8 a.m. to 4:30 p.m., Monday through Friday, excluding legal holidays. The telephone number for the Reading Room is 202-566-1744, and the telephone number for the Water Docket is 202-566-2426.

Use http://www.regulations.gov to obtain a copy of the draft collection of information, submit or view public comments, access the index listing of the contents of the docket, and to access those documents in the public docket that are available electronically. Once in the system, select “search,” then key in the docket ID number identified in this document.

What Information Is EPA Particularly Interested in?

Pursuant to section 3506(c)(2)(A) of the PRA, EPA specifically solicits comments and information to enable it to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

What Should I Consider When I Prepare My Comments for EPA?

You may find the following suggestions helpful for preparing your comments:

1. Explain your views as clearly as possible and provide specific examples.

2. Describe any assumptions that you used.

3. Provide copies of technical information/data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

What Information Collection Activity or ICR Does This Apply to?

Affected Entities: Entities potentially affected by this action are most facilities required to have NPDES permit coverage, including but not limited to publicly owned treatment works (POTWs), privately owned treatment works (PrOTWs), manufacturing and commercial dischargers, mining operation, Concentrated Animal Feeding Operations (CAFOs), stormwater dischargers, and vessels.

Title: NPDES and Sewage Sludge Monitoring Reports.

ICR Number: EPA ICR No. 0229.17, OMB Control No. 2040-0004.

ICR Status: This ICR is currently scheduled to expire on September 30, 2008. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: The purpose of this ICR is to consolidate, streamline, and update EPA's NPDES-related ICRs into the currently approved ICR for NPDES and Sewage Sludge Monitoring Reports (OMB Control No.: 2040-0004). EPA identified 15 NPDES-related ICRs consisting of program-based (i.e., Pretreatment Program), activity-based (i.e., Applications, Discharge Monitoring Reports [DMRs]), and rule-based (i.e., Cooling Water Intake-Phase II, Stormwater Program Phase II) ICRs. Historically, EPA identified the five activity-based ICRs as representing the base NPDES program. Those ICRs include: (1) Applications ICR (OMB Control No. 2040-0086); (2) DMR ICR (OMB Control No. 2040-0004); (3) Modification/Variance ICR (OMB Control No. 2040-0068); (4) Compliance Assessment/Certification ICR (OMB Control No. 2040-0110); and (5) State Program ICR (OMB Control No. 2040-0057). Several additional ICRs include activities that contain similar activities to those identified in the five base NPDES program ICRs and as such, are being consolidated into this ICR. Those four ICRs include: (1) Stormwater Program Phase II (OMB Control No. 2040-0211); (2) Stormwater discharges associated with construction activities (OMB Control No. 2040-0188); (3) CSO Control Policy (OMB Control No. 2040-0170); and (4) NPDES Great Lakes Water Quality Guidance (OMB Control No. 2040-0180). In addition, the revised ICR will account for the burden related to EPA's upcoming Eligible Commercial and Other Non-recreational Vessels General Permit.

Burden Statement: The individual ICRs provide a detailed explanation of the Agency's estimate, which is briefly summarized here on Tables 1 and 2. The frequency of response for these ICRs varies from once to daily.

Table 1—ICRs Responses, Burden, and Cost Summary
OMB ICR No. | EPA ICR No. | Title | Annual number of responses | Annual burden (hours) | Annual cost burden (dollars)
2040-0004 | 0229.16 | NPDES and Sewage Sludge Monitoring Reports (DMR) | 583,987 | 14,193,543 | 11,816,288
2040-0057 | 0168.08 | NPDES and Sewage Sludge Management State Programs | 19,405 | 1,013,802 | 0
2040-0068 | 0029.08 | NPDES Modification and Variance Requests | 23,610 | 280,224 | 0
2040-0086 | 0226.17 | Applications for the NPDES Discharge Permits and the Sewage Sludge Management Permits | 249,494 | 1,359,497 | 5,380,000
2040-0110 | 1427.07 | NPDES Compliance Assessment/Certification Information | 507,585 | 2,066,677 | 0
2040-0170 | 1680.04 | CSO Control Policy | 1,286 | 400,542 | 156,000
2040-0180 | 1639.05 | NPDES Great Lakes Water Quality Guidance | 1,257 | 84,537 | 0
2040-0188 | 1842.04 | Notice of Intent (NOI) for Stormwater Discharges Associated with Construction Activity under an NPDES General Permit | 157,546 | 8,247,638 | 0
2040-0211 | 1820.03 | NPDES Stormwater Program Phase II | 135,908 | 3,696,276 | 0
N/A | N/A | Eligible Commercial and Other Non-recreational Vessels General Permit | 209,019 | 126,706 | 0

Table 2—ICRs Respondents and Averages Summary
OMB ICR No. | EPA ICR No. | Title | Number of potential respondents | Average number of responses for each respondent | Average hours per response
2040-0004 | 0229.16 | NPDES and Sewage Sludge Monitoring Reports (DMR) | 81,988 | 7.1 | 24.3
2040-0057 | 0168.08 | NPDES and Sewage Sludge Management State Programs | 618 | 31.4 | 52.2
2040-0068 | 0029.08 | NPDES Modification and Variance Requests | 11,831 | 2.0 | 11.9
2040-0086 | 0226.17 | Applications for the NPDES Discharge Permits and the Sewage Sludge Management Permits | 249,494 | 1.0 | 5.4
2040-0110 | 1427.07 | NPDES Compliance Assessment/Certification Information | 450,471 | 1.1 | 4.1
2040-0170 | 1680.04 | CSO Control Policy | 776 | 1.7 | 311.5
2040-0180 | 1639.05 | NPDES Great Lakes Water Quality Guidance | 3,795 | 0.3 | 67.3
2040-0188 | 1842.04 | Notice of Intent (NOI) for Stormwater Discharges Associated with Construction Activity under an NPDES General Permit | 157,546 | 1.0 | 52.4
2040-0211 | 1820.03 | NPDES Stormwater Program Phase II | 135,908 | 1.0 | 27.2
N/A | N/A | Eligible Commercial and Other Non-recreational Vessels General Permit | 65,625 | 3.2 | 0.6

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Change in Burden: The current burden approved by OMB for the ICRs being consolidated is 31,342,736 hours. Apart from the additional burden related to EPA's upcoming Eligible Commercial and Other Non-recreational Vessels General Permit, EPA does not anticipate that the resulting burden for the consolidated ICR will be significantly different than the sum of the individual ICRs. Any changes are expected to be the result of fluctuations in the permitted universe.

What Is the Next Step in the Process for This ICR?

EPA will consider the comments received and amend the ICR as appropriate. The final ICR package will then be submitted to OMB for review and approval pursuant to 5 CFR 1320.12. At that time, EPA will issue another Federal Register notice pursuant to 5 CFR 1320.5(a)(1)(iv) to announce the submission of the ICR to OMB and the opportunity to submit additional comments to OMB. If you have any questions about this ICR or the approval process, please contact the technical person listed under FOR FURTHER INFORMATION CONTACT.

Dated: September 17, 2008.
James A. Hanlon,
Director, Office of Wastewater Management.

[FR Doc. E8-22801 Filed 9-26-08; 8:45 am]

BILLING CODE 6560-50-P